DEPARTMENT OF VETERANS AFFAIRS

Establishment of the Airborne Hazards and Open Burn Pit Registry

AGENCY: Department of Veterans Affairs.

ACTION: Notice.

SUMMARY: The Department of Veterans Affairs (VA) announces the establishment of the Airborne Hazards and Open Burn Pit Registry. The registry is voluntary and open to eligible Veterans and Servicemembers who may have been exposed to airborne hazards by serving as members of the Armed Forces in one or more of the locations in the Southwest Asia theater of operations [as defined in 38 CFR 3.317(e)(2)], on or after August 2, 1990, or on or after September 11, 2001, to include Afghanistan or Djibouti. The registry will support efforts to ascertain and monitor the health effects in eligible Veterans and Servicemembers who were possibly exposed to open burn pits, toxic airborne chemicals and fumes, and other airborne hazards such as particulate matter (PM). Eligible Veterans and Servicemembers do not have to be enrolled for VA health care in order to participate in this registry.

FOR FURTHER INFORMATION CONTACT: Dr. Paul Ciminera, Department of Veterans Affairs, 810 Vermont Avenue NW., Washington, DC 20420, telephone (202) 461-1020. (This is not a toll-free number.)

SUPPLEMENTARY INFORMATION: VA announces the establishment of the Airborne Hazards and Open Burn Pit Registry for eligible individuals who may have been exposed to open burn pits, toxic airborne chemicals and fumes, and other airborne hazards such as PM, while serving as a member of the Armed Forces in one or more of the locations in the Southwest Asia theater of operations [as defined in 38 CFR 3.317(e)(2)], on or after August 2, 1990, or on or after September 11, 2001, to include Afghanistan or Djibouti. VA is mandated by Section 201 of the Dignified Burial and Other Veterans' Benefits Improvement Act of 2012, Public Law 112-260, to establish and maintain an open burn pit registry for eligible individuals who may have been exposed to toxic airborne chemicals and fumes caused by open burn pits in Iraq and Afghanistan on or after September 11, 2001. VA has exercised its authority under Section 703(b) of Public Law 102-585 to expand eligibility to Veterans and Servicemembers who served in the Southwest Asia theater of operations on or after August 2, 1990 (e.g., the Persian Gulf War), and Djibouti on or after September 11, 2001. VA chose to expand geographic, temporal (time), and exposure eligibility to ensure individuals with plausible exposures to airborne hazards receive a standardized assessment, enhanced outreach and health risk communication, and an optional in-person clinical evaluation. VA and the Department of Defense (DoD) have agreed that Servicemembers who meet the geographic, temporal (time), and exposure eligibility criteria who may have experienced similar exposures may also participate in the registry.

The inclusion of exposures to environmental hazards other than open burn pits in the registry is supported by findings in the VA-sponsored 2011 Institute of Medicine (IOM) report titled, “Long-Term Health Consequences of Exposure to Burn Pits in Iraq and Afghanistan.” The report states that, “military personnel were exposed to a mixture of combustion products from the burn pit and to other air pollutants from local and regional sources” (IOM, page 110). Similar mixtures of combustion products are also present in the Southwest Asia theater of operations beyond Iraq to Afghanistan as well as in Djibouti.

Veterans and Servicemembers who deployed in support of the Persian Gulf War (GW) are also eligible to participate in the VA Gulf War Registry. GW Veterans are encouraged to participate in both registries, as the Airborne Hazards and Open Burn Pit Registry includes additional data related to airborne hazards.

The Airborne Hazards and Open Burn Pit Registry was created to help address the concerns of Veterans and Servicemembers who were stationed at or near bases where open air burn pits were used to dispose of waste, including potentially hazardous material. Uncontrolled open burning was a method of waste disposal for military units deployed to Iraq and Afghanistan after September 11, 2001. Independent scientific reviews of the available scientific data indicate other sources of potential airborne hazards may exist. As a result of uncertainty in the location and extent of potentially harmful exposures, VA has expanded eligibility for the registry to ensure that Servicemembers possibly exposed to airborne hazards can be included in the registry. VA and DoD are interested in collecting registry data for Veterans and Servicemembers exposed to airborne hazards in places other than Iraq and Afghanistan for the purpose of gaining a more complete understanding of the short and long-term health effects of being exposed to airborne hazards while deployed. The scientific utility of the registry to ascertain whether any health effects may be associated with specific reported exposures will be predicated on the eligible individuals who choose to participate in the registry. Demographic, genetic, exposure, and health outcome differences between the individuals who choose to participate in the registry and the entire population of Veterans and Servicemembers who deployed may limit the ability of the registry to provide unbiased risk estimates of associations between exposure to airborne hazards and health outcomes. In conjunction with research studies investigating the long-term health effects of exposures to open burning operations and other airborne hazards, the registry may be helpful in developing a standardized post-deployment exposure self-assessment, standardizing the collection of clinical evaluation data, and in generating hypotheses regarding self-reported exposures, self-reported conditions, and clinically determined conditions.

VA recently announced preliminary plans to jointly conduct with DoD a longitudinal cohort study of the potential adverse health effects related to military deployment to Iraq and Afghanistan, to include potential exposure to airborne hazards and burn pits, and to take appropriate actions to promote the effective monitoring and assessment of deployment-related exposures and potential health effects of deployments (78 FR 7860, February 4, 2013). VA indicated that a longitudinal cohort study will likely involve a population-based, cohort study to address the potential long-term health effects of deployment to Iraq and Afghanistan. Exposures of interest include PM from many sources, including burn pit exposure. Unlike the registry, the longitudinal cohort study will require a randomized approach for the selection of study participants; Veterans and Servicemembers cannot ask to participate. By capturing information from these studies and the registry, VA will increase its ability to understand important information about the potential long-term health consequences of airborne hazards and burn pit exposures.

VA, in coordination with DoD, plans to conduct extensive outreach to Veterans and Servicemembers for the purposes of raising awareness about the registry and to provide eligible individuals with information regarding the advantages of participating in the registry and other benefits. Information on how to participate in the registry will be posted on the VA Office of Public Health Web site at http://www.publichealth.va.gov/, and will be available through fact sheets and postcards, through Veterans Service Organizations, and through other social media outlets such as Facebook and Twitter in the coming months.

Veterans and Servicemembers who participate in the registry will receive a participation letter following the completion of the self-assessment questionnaire. An electronic copy of the participation letter will be available through the registry Web site, and a copy will be mailed to participants.

After completing the registry self-assessment questionnaire, Veterans and Servicemembers can request an in-person and no-cost medical evaluation for health concerns and conditions that may be related to environmental airborne hazards. The medical examination is voluntary and is not required to be in the registry. Individuals who choose to participate in the registry do not have to be enrolled in VA health care. Veterans enrolled in the VA health care system who want to receive a medical evaluation after they complete the registry self-assessment questionnaire are advised to contact their primary care provider or Patient Aligned Care Team. Veterans not enrolled in the VA health care system who have completed the registry self-assessment questionnaire are advised to contact a VA Environmental Health Coordinator in their area to schedule a VA medical evaluation. A directory of Environmental Health Coordinators is available at the VA Web site: http://www.publichealth.va.gov/exposures/coordinators.asp.

Active duty Servicemembers (including activated Reserve and Guard personnel) who would like to receive a medical evaluation after they complete the registry self-assessment questionnaire may contact their local servicing military hospital or clinic medical treatment facility to schedule an appointment for a voluntary medical evaluation. Active duty Servicemembers should state that they are calling for an appointment specifically to address “health concerns related to the Airborne Hazards and Open Burn Pit Registry exposures.”

Reserve component members (Army, Air National Guard, and Reserve) who based on their active service, meet the statutory definition of Veteran and the statutory minimum length of active-duty service requirements will be eligible for Veterans Health Administration clinical evaluations in the same manner as other Veterans. Upon request, VA will provide them a voluntary medical evaluation. Please note a medical evaluation is not required to participate in the registry.

Participation in the registry does not constitute a claim for disability compensation through VA. Additionally, it is not necessary to participate in the registry to file a claim for disability compensation.

The registry is not a means to obtain health care. Anyone experiencing any urgent symptoms, such as difficulty breathing or chest pains, should go to the nearest emergency room or call 911.

Paperwork Reduction Act

The Paperwork Reduction Act of 1995 (44 U.S.C. 3507) requires that VA consider the impact of paperwork and other information collection burdens imposed on the public. Under 44 U.S.C. 3507(a), an agency may not collect or sponsor the collection of information, nor may it impose an information collection unless it displays a currently valid Office of Management and Budget (OMB) control number. See also 5 CFR 1320.8(b)(2)(vi). This notice announces a new information collection. As required by the Paperwork Reduction Act of 1995, VA has submitted this information to OMB for its review. OMB approved this new information collection and assigned OMB control number 2900-0800.

Dated: June 20, 2014.
By Direction of the Secretary.
William F. Russo,
Deputy Director, Regulation Policy and Management, Office of the General Counsel, Department of Veterans Affairs.

[FR Doc. 2014-14881 Filed 6-24-14; 8:45 am]

BILLING CODE 8320-01-P